DEPARTMENT OF AGRICULTURE

Agricultural Marketing Service

[Docket No. FV-04-302]

United States Standards for Grades of Sweet Potatoes

AGENCY: Agricultural Marketing Service, USDA.

ACTION: Notice; request for public comment.

SUMMARY: The Agricultural Marketing Service (AMS) of the Department of Agriculture (USDA) is soliciting comments on it's proposal to revise the United States Standards for Grades of Sweet Potatoes. USDA has received a request from several industry groups to add a new grade to the standards, U.S. No. 1 Petite. The change being proposed would allow the packing and shipping of smaller size sweet potatoes under the U.S. standards, thereby, improving the usefulness of the standards in serving the industry.

DATES: Comments must be received by December 28, 2004.

ADDRESSES: Interested persons are invited to submit written comments to the Standardization Section, Fresh Products Branch, Fruit and Vegetable Programs, Agricultural Marketing Service, U.S. Department of Agriculture, 1400 Independence Ave. SW., Room 1661 South Building, Stop 0240, Washington, DC 20250-0240; Fax (202) 720-8871, E-mail FPB.DocketClerk@usda.gov. Comments should make reference to the dates and page number of this issue of the Federal Register and will be made available for public inspection in the above office during regular business hours.

FOR FURTHER INFORMATION CONTACT: David L. Priester, at the above address or call (202) 720-2185; E-mail David.Priester@usda.gov.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices * * *.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA/AMS/Fruit and Vegetable Programs.

AMS is proposing to revise the voluntary U.S. Standards for Grades of Sweet Potatoes using procedures that appear in part 36 Title 7 of the Code of Federal Regulations (7 CFR part 36). These standards were last revised in 1963.

Background

On December 10, 2003, AMS published a notice soliciting comments on a possible revision to the United States Standards for Grades of Sweet Potatoes. As a result, AMS received five comments from industry groups requesting the addition of a new grade entitled U.S. No. 1 Petite, with the same requirements as the U.S. No. 1 grade currently in the standard, except for the size requirements. The request specified that the size requirements for the U.S. No. 1 Petite be: A minimum diameter of 1½ inches, a maximum diameter of 2¼ inches, a minimum length of 3 inches and a maximum length of 7 inches. These industry groups stated this new grade would aid in the marketing of smaller size sweet potatoes as the U.S. standards currently require sweet potatoes to be a larger size in order to meet a grade. Therefore, the addition of the U.S. No. 1 Petite grade to the standards would improve its usefulness in serving the industry.

The official grade of a lot of sweet potatoes covered by these standards will be determined by the procedures set forth in the Regulations Governing Inspection, Certification, and Standards of Fresh Fruits, Vegetables and Other Products (§§ 51.1 to 51.61).

This notice provides for a 60-day comment period for interested parties to comment on changes to the standard.

Authority: 7 U.S.C. 1621-1627.

Dated: October 25, 2004.
A.J. Yates,
Administrator, Agricultural Marketing Service.

[FR Doc. 04-24163 Filed 10-28-04; 8:45 am]

BILLING CODE 3410-02-P